DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of intent to evaluate and notice of availability of final findings.

SUMMARY: The NOAA Office of Ocean and Coastal Resource Management (OCRM) announces its intent to evaluate the performance of the Rhode Island Coastal Resources Management Program.

The Coastal Zone Management Program evaluation will be conducted pursuant to section 312 of the Coastal Zone Management Act of 1972, as amended (CZMA) and regulations at 15 CFR Part 923, Subpart L. The CZMA requires continuing review of the performance of States with respect to coastal program implementation. Evaluation of a Coastal Management Program requires findings concerning the extent to which a State has met the national objectives, adhered to its Coastal Management Program document approved by the Secretary of Commerce, and adhered to the terms of financial assistance awards funded under the CZMA.

Each evaluation will include a site visit, consideration of public comments, and consultations with interested Federal, State, and local agencies and members of the public. A public meeting will be held as part of the site visit. When the evaluation is completed, OCRM will place a notice in the Federal Register announcing the availability of the Final Evaluation Findings. Notice is hereby given of the date of the site visit for the listed evaluation, and the date, local time, and location of the public meeting during the site visit.

Dates and Times: The Rhode Island Coastal Resources Management Program evaluation site visit will be held January 25-29, 2010. One public meeting will be held during the week. The public meeting will be held on Wednesday, January 27, 2010, at 6 p.m. at the Rhode Island Department of Administration, Conference Room A, One Capitol Hill, Providence, Rhode Island.

ADDRESSES: Copies of States' most recent performance reports, as well as OCRM's evaluation notification and supplemental information request letters to the State, are available upon request from OCRM. Written comments from interested parties regarding this Program are encouraged and will be accepted until 15 days after the public meeting. Please direct written comments to Kate Barba, Chief, National Policy and Evaluation Division, Office of Ocean and Coastal Resource Management, NOS/NOAA, 1305 East-West Highway, 10th Floor, N/ORM7, Silver Spring, Maryland 20910.

SUPPLEMENTARY INFORMATION: Notice is hereby given of the availability of the final evaluation findings for Minnesota's Lake Superior Coastal Program and the Narragansett Bay (Rhode Island) and Kachemak Bay (Alaska) National Estuarine Research Reserves (NERRs). Sections 312 and 315 of the Coastal Zone Management Act of 1972 (CZMA), as amended, require a continuing review of the performance of coastal States with respect to approval of CMPs and the operation and management of NERRs.

The State of Minnesota was found to be implementing and enforcing its Federally approved coastal management program, addressing the national coastal management objectives identified in CZMA Section 303(2)(A)-(K), and adhering to the programmatic terms of their financial assistance awards. The Narragansett Bay and Kachemak Bay NERRs were found to be adhering to programmatic requirements of the NERR System.

Copies of these final evaluation findings may be obtained upon written request from: Kate Barba, Chief, National Policy and Evaluation Division, Office of Ocean and Coastal Resource Management, NOS/NOAA, 1305 East-West Highway, 10th Floor, N/ORM7, Silver Spring, Maryland 20910, or Kate.Barba@noaa.gov.

FOR FURTHER INFORMATION CONTACT: Kate Barba, Chief, National Policy and Evaluation Division, Office of Ocean and Coastal Resource Management, NOS/NOAA, 1305 East-West Highway, 10th Floor, N/ORM7, Silver Spring, Maryland 20910, (301) 563-1182.

Dated: November 20, 2009.
Donna Wieting,
Acting Director, Office of Ocean and Coastal Resource Management, National Ocean Service, National Oceanic and Atmospheric Administration.
Federal Domestic Assistance Catalog 11.419.
Coastal Zone Management Program Administration.

[FR Doc. E9-29055 Filed 12-4-09; 8:45 am]

BILLING CODE 3510-08-P